DEPARTMENT OF AGRICULTURE

Food and Nutrition Service

Agency Information Collection Activities: WIC and Senior Farmers' Market Nutrition Programs—Reporting and Recordkeeping Burden

AGENCY: Food and Nutrition Service (FNS), USDA.

ACTION: Notice.

SUMMARY: In accordance with the Paperwork Reduction Act of 1995, this notice invites the general public and other public agencies to comment on this proposed information collection. This collection is: (1) a revision of the currently approved collections for the reporting and recordkeeping burdens associated with the Senior Farmers' Market Nutrition Program (SFMNP) regulations and with the Women, Infants, and Children (WIC) Farmers' Market Nutrition Program (FMNP) regulations; and (2) a consolidation of the SFMNP and WIC FMNP reporting and recordkeeping burdens into a single information collection to more accurately reflect consolidated program operations.

DATES: Written comments must be received on or before October 7, 2025.

ADDRESSES: The Food and Nutrition Service, USDA, invites interested persons to submit written comment.

• Preferred Method: Federal eRulemaking Portal. Go to http://www.regulations.gov and follow the online instructions for submitting comments electronically.

• Mail: Allison Post, Food and Nutrition Service, U.S. Department of Agriculture, 1320 Braddock Place, Room 328, Alexandria, VA 22302.

• Email: Send email to allison.post@usda.gov.

All responses to this notice will be summarized and included in the request for Office of Management and Budget (OMB) approval. All comments will be a matter of public record.

FOR FURTHER INFORMATION CONTACT: Requests for additional information or copies of this information collection should be directed to Allison Post at allison.post@usda.gov or 703-457-7708.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: WIC and Senior Farmers' Market Nutrition Programs—Reporting and Recordkeeping Burden.

Form Numbers: FNS-683A and FNS-683B (under OMB Control Number 0584-0594, expiring 09/30/2026) are associated with this collection.

OMB Number: This is a revision of OMB Control Numbers 0584-0447 and 0584-0541, which will combine into a single collection under OMB Control Number 0584-0447. OMB Control Number 0584-0541 will be discontinued upon revision approval of OMB Control Number 0584-0447.

Expiration Date: OMB Control Number 0584-0541: January 31, 2026; OMB Control Number 0584-0447: August 31, 2027.

Type of Request: Revision and consolidation of two currently approved collections.

Abstract: The purpose of the Senior Farmers' Market Nutrition Program (SFMNP) is to provide resources in the form of fresh, nutritious, unprepared, locally grown fruits, vegetables, herbs, and honey from farmers' markets, roadside stands, and community supported agriculture (CSA) programs to low income seniors; to increase the domestic consumption of agricultural commodities by expanding or aiding in the expansion of domestic farmers' markets, roadside stands, and CSA programs; and to develop or aid in the development of new and additional farmers' markets, roadside stands, and CSA programs. SFMNP is administered by State agencies in 45 States, 8 Indian Tribal Organizations, the District of Columbia, Puerto Rico, and the U.S. Virgin Islands.

The WIC Farmers' Market Nutrition Program (FMNP) is associated with the Special Supplemental Nutrition Program for Women, Infants, and Children (WIC). WIC provides supplemental foods, health care referrals, and nutrition education at no cost to low-income pregnant, breastfeeding, and non-breastfeeding postpartum participants, infants, and children up to 5 years of age at nutritional risk. The purpose of WIC FMNP is to provide fresh, nutritious, unprepared, locally grown fruits and vegetables through farmers' markets and roadside stands to WIC participants, and to expand awareness and use of, and sales at, farmers' markets and roadside stands. WIC FMNP is administered by State agencies in 40 States, 7 Indian Tribal Organizations, the District of Columbia, Puerto Rico, and the U.S. Virgin Islands.

WIC FMNP and SFMNP have near-identical program requirements and are often administered by the same State agency as a “consolidated” program. State agencies administering consolidated programs may accept a single application from a farmer, farmers' market, or roadside stand, for participation in both programs. Additionally, consolidated State agencies may combine farmer, farmers' market, and roadside stand monitoring and evaluation efforts, and may use the same coupon or electronic benefit management system for both programs allowing for combined maintenance and recordkeeping efforts. Consolidated WIC FMNP and SFMNP programs are administered by 23 States, 6 Indian Tribal Organizations, the District of Columbia, Puerto Rico, and the U.S. Virgin Islands.

SFMNP statute (7 U.S.C. 3007) and regulations (7 CFR part 249), and WIC FMNP statute (42 U.S.C. 1786(m)(8)) and regulations (7 CFR part 248), require that certain program-related information be collected and that full and complete records concerning program operations are maintained. The information reporting and recordkeeping requirements are necessary to ensure appropriate and efficient management of both programs. The burden activities that are covered by this Information Collection Request (ICR) include requirements that involve the authorization and monitoring of local agencies; the certification of participants; the nutrition education that is provided to participants; farmer, farmers' market, roadside stand, and CSA program (SFMNP only) authorization, training, monitoring, and management; and financial and participation data.

State Plans are the principal source of information about how each State agency operates WIC FMNP and SFMNP. State agencies administering both programs may submit a single consolidated State Plan describing both WIC FMNP and SFMNP operations to the U.S. Department of Agriculture's (USDA) Food and Nutrition Service (FNS) (7 CFR 249.4(a)). State Plans are currently submitted to FNS electronically as Word or PDF documents using a web-based application called PartnerWeb. FNS's Waivers and State Plans (WiSP) application will allow State agencies to directly enter and submit State Plan information to FNS. Once live, the reporting and recordkeeping burdens associated with State agencies inputting and storing information in WiSP will be captured in the WiSP ICR (OMB Control Number not yet determined; see 89 FR 106420). FNS expects that, beyond the burdens covered in the WiSP ICR, State agencies will spend additional time collecting and recording information from local agencies and authorized outlets in preparation for their State Plan submissions, and therefore this ICR maintain some State Plan-related reporting and recordkeeping burden.

Information from participants and local agencies is collected through State agency-developed forms or Management Information Systems. The information collected is used by FNS to manage, plan, evaluate, make decisions and report on SFMNP and WIC FMNP operations. Along with State Plans, all State agencies also submit the Federal-State Supplemental Nutrition Programs Agreement (FNS-339), for which the associated reporting and recordkeeping burden is approved under OMB Control Number: 0584-0332, Expiration Date: 7/31/2025.

Additionally, SFMNP financial and participation data are collected using the SFMNP Annual Financial and Program Data Report (FNS 683A), and WIC FMNP financial and participation data are collected using the WIC FMNP Annual Financial and Program Data Report (FNS 683B). These forms and their associated reporting burdens are approved under OMB Control Number: 0584-0594 Food Programs Reporting System (FPRS), Expiration Date: 9/30/2026. The recordkeeping burdens associated with forms FNS 683A and FNS 683B are not approved under OMB Control Number 0584-0594. State agencies must maintain records to support data reported in FPRS, and the recordkeeping burden for such record maintenance is captured in this ICR, OMB Control Number: 0584-0447 (and previously in OMB Control Number 0584-0541).

With this information collection, FNS is requesting a revision in the burden hours due to program changes and program adjustments. The most significant program changes reported in this revision are due to SFMNP State agencies transitioning from paper coupon systems to electronic benefit systems, and more accurate reporting of consolidated State agencies' burdens. Additional program changes include the creation of the WiSP application for WIC FMNP and SFMNP State agencies to submit State Plans; corrections to align estimates between programs or more accurately capture program requirements; and corrections to account for existing requirements that have been in use without Paperwork Reduction Act approval. The program adjustments account for changes in the number of participants, authorized outlets (farmers, farmers' markets, roadside stands, and—for SFMNP only—CSA programs), and State and local agencies across both programs.

To date, the WIC FMNP reporting and recordkeeping requirements have been approved under OMB Control Number 0584-0447 (expiration date: 8/31/2027), and the SFMNP reporting and recordkeeping requirements have been separately approved under OMB Control Number 0584-0541 (expiration date: 1/31/2026). This revision proposes to consolidate the SFMNP ICR and the WIC FMNP ICR into a single collection under OMB Control Number 0584-0447. Consolidating the two ICRs will allow FNS to more accurately and clearly capture the two programs' information collection burdens, place both programs on the same cycle of ICR renewals and reduce administrative inefficiencies at FNS.

The currently approved burden for the SFMNP collection is 1,137,363 hours, and the currently approved burden for the WIC FMNP collection is 1,175,964 hours (2,313,327 hours combined). FNS estimates the new, combined burden at 1,760,175 burden hours, which is a decrease of 553,152 hours. The currently approved number of responses for the SFMNP collection is 2,401,277 total annual responses, and the currently approved number of responses for the WIC FMNP collection is 4,149,393 total annual responses (6,550,670 annual responses combined). FNS estimates the new, combined number of responses at 6,965,338, which is an increase of 414,668 total annual responses.

Affected Public: Individuals/Households, Business or Other For Profit; Not For Profit; State, Local, and Tribal Government. Respondent groups identified include: (1) WIC FMNP participants who are women, infants, and children participating in the WIC Program, and SFMNP participants who are income-eligible seniors; (2) WIC FMNP and SFMNP authorized outlets which are farmers, farmers' markets, roadside stands, and CSA programs (SFMNP only); (3) non-profit businesses operating as local agencies; and (4) local and State agencies (including geographic States, U.S. Territories, and Indian Tribal Organizations (ITOs)) administering WIC FMNP and SFMNP.

Estimated Number of Respondents: The total estimated number of respondents is 2,277,011. This includes 50 WIC FMNP State agencies and 56 SFMNP State agencies, 379.75 WIC FMNP local agencies and 389.55 SFMNP local agencies (half of all local agencies operated by government entities), 1,428,163 WIC FMNP individuals/households (i.e., participants) and 812,057 SFMNP individuals/households (i.e., participants), 162.75 WIC FMNP non-profit business local agencies and 166.95 SFMNP non-profit business local agencies (half of all local agencies operated by non-profit businesses), and 17,403 authorized FMNP outlets (farmers, farmers' markets, roadside stands) and 18,183 authorized SFMNP outlets (farmers, farmers' markets, roadside stands, CSA programs.

Estimated Number of Responses per Respondent: The total estimated number of responses per respondent for this collection is 3.06.

Estimated Total Annual Responses: 6,965,338. The estimated total for reporting is 4,720,808 while the estimate total for recordkeeping is 2,244,530.

Estimated Time per Response: The estimated time per response averages approximately 15 minutes (0.25 hours) for all respondents. For the reporting burden, the estimated time per response varies from 5 minutes to 40 hours, while the estimated time per response for the recordkeeping burden varies from 1 minute to 40 hours, depending on the requirement.

Estimated Total Annual Burden on Respondents: 1,760,175.20 hours. The estimated total reporting burden is 1,715,877.81 hours while the estimated total recordkeeping burden is 44,297.39 hours.

See the table below for estimated total annual burden for each type of respondent.

Table 1—Estimate of the Collection of Information Burden Table for Reporting
Respondent | WIC FMNP regulatory section | SFMNP regulatory section | Information collected | Estimated number of respondents | Responses per respondent | Total annual responses | Hours per response | Total annual burden hours
State & Local Agencies | 248.3(e), 246.5 | 249.3(d) | Local Agency Applications | 769.30 | 1.00 | 769.30 | 2.00 | 1,538.60
State & Local Agencies | 248.4 | 249.4 | State Plan | 106.00 | 1.00 | 106.00 | 15.00 | 1,590.00
State & Local Agencies | 248.6, 248.10(i) | 249.6, 249.10(i) | Participant Certification and Instructions | 106.00 | 21,134.15 | 2,240,220.00 | 0.25 | 560,055.00
State & Local Agencies | 248.9 | 249.9 | Development and Coordination of Nutrition Education | 106.00 | 1.00 | 106.00 | 5.00 | 530.00
State & Local Agencies | 248.10(a)(2)-(3), (b), (c) | 249.10(a)(2)-(3), (b), (c) | Authorization—Review of Outlet Applications (Farmers, Farmers' Markets, Roadside Stands, CSA Programs) | 74.00 | 112.21 | 8,303.33 | 0.25 | 2,075.83
State & Local Agencies | 248.10(a)(4), (d) | N/A | Face-to-Face Training Development | 50.00 | 1.00 | 50.00 | 8.00 | 400.00
State & Local Agencies | 248.10(a)(4), (d) | N/A | Face-to-Face Training | 50.00 | 15.00 | 750.00 | 2.00 | 1,500.00
State & Local Agencies | 248.10(b)(5) | 249.10(b)(8) | Disqualification of Authorized Outlets | 10.00 | 1.00 | 10.00 | 0.08 | 0.84
State & Local Agencies | 248.10(d) | 249.10(a)(7), (d) | Development of Annual Training for Authorized Outlets | 74.00 | 1.00 | 74.00 | 8.00 | 592.00
State & Local Agencies | 248.10(d) | 249.10(a)(7), (d) | Annual Training for Authorized Outlets | 74.00 | 15.00 | 1,110.00 | 2.00 | 2,220.00
State & Local Agencies | 248.10(e)(2), (3); 248.17(c)(1)(i) | 249.10(e)(2)(3), 249.17(c)(1)(i) | Monitoring/Review of Authorized Outlets | 74.00 | 33.66 | 2,491.00 | 1.50 | 3,736.50
State & Local Agencies | 248.10(e)(4); 248.17(c)(1)(ii)-(iii) | 249.10(e)(4), 249.17(c)(1)(ii)-(iii) | Monitoring/Review of Local Agencies | 106.00 | 10.37 | 1,099.00 | 2.00 | 2,198.00
State & Local Agencies | 248.10(f) | 249.10(f) | Coupon/CSA Management System | 74.00 | 1.00 | 74.00 | 5.00 | 370.00
State & Local Agencies | 248.10(h) | 249.10(h) | Coupon reconciliation |  |  |  |  | 211.50
State & Local Agencies | 248.10(h) | 249.10(h) | Paper Coupon Reconciliation | 35.00 | 1.00 | 35.00 | 3.00 | 105.00
State & Local Agencies | 248.10(h) | 249.10(h) | Electronic Benefit Reconciliation | 71.00 | 1.00 | 71.00 | 1.50 | 106.50
State & Local Agencies | 248.10(j) | 249.10(j) | Authorized Outlet and Participant Complaints | 106.00 | 13.82 | 1,465.00 | 1.00 | 1,465.00
State & Local Agencies | 248.10(k) | 249.10(k) | Authorized Outlet and Participant Sanctions | 106.00 | 159.93 | 16,952.86 | 0.0835 | 1,415.56
State & Local Agencies | 248.11(a) | 249.11 | Financial Management System (Disclosure of Financial Expenditures) | 106.00 | 1.00 | 106.00 | 10.00 | 1,060.00
State & Local Agencies | 248.12(a)(2) | 249.12(a)(2) | Prior Approval for Cost Items per 2 CFR part 200, subpart E, and 2 CFR parts 400 and 415 | 10.00 | 1.00 | 10.00 | 40.00 | 400.00
State & Local Agencies | 248.17(a) | 249.17(a) | Establishment of Management Evaluation System | 2.00 | 1.00 | 2.00 | 24.00 | 48.00
State & Local Agencies | 248.17(b)(2)(ii) | 249.17(b)(2)(ii) | State Agency Corrective Action Plans | 16.00 | 1.00 | 16.00 | 10.00 | 160.00
State & Local Agencies | 248.17(c)(2) | 249.17(c)(2) | Special Reports | 4.00 | 1.00 | 4.00 | 10.00 | 40.00
State & Local Agencies | 248.18(b) | 249.18(b) | Audit Responses | 2.00 | 1.00 | 2.00 | 15.00 | 30.00
Subtotal: State & Local Agencies | 875.30 | 2,597.77 | 2,273,826.49 | 0.26 | 581,636.83
Individuals/Households | 248.6, 248.10(i) | 249.6, 249.10(i) | Certification Data and Instructions for Participants | 2,240,220.00 | 1.00 | 2,240,220.00 | 0.25 | 560,055.00
Individuals/Households | N/A | 249.10(j) | Participant Complaints | 560.00 | 1.00 | 560.00 | 0.50 | 280.00
Individuals/Households | N/A | 249.16(a)(1)(i)-(ii) | Appeal of Denial | 324.82 | 1.00 | 324.82 | 2.00 | 649.65
Subtotal: Individuals/Households | 2,240,220.00 | 1.00 | 2,241,104.82 | 0.25 | 560,984.65
Authorized Outlets & Non-Profit Businesses | 248.3(e), 246.5 | 249.3(d) | Non-Profit Business Local Agency Applications | 329.70 | 1.00 | 329.70 | 2.00 | 659.40
Authorized Outlets & Non-Profit Businesses | 248.10(b), (c) | 249.10(b), (c) | Authorized Outlet Agreements | 8,303.33 | 1.00 | 8,303.33 | 0.0835 | 693.33
Authorized Outlets & Non-Profit Businesses | 248.10(b)(5) | 249.10(b)(8) | Appeal of Denial | 2.00 | 1.00 | 2.00 | 2.00 | 4.00
Authorized Outlets & Non-Profit Businesses | 248.10(a)(4), 248.10(d) | 249.10(d) | Annual Training for Authorized Outlets (New and Returning) | 24,910.00 | 1.00 | 24,910.00 | 2.00 | 49,820.00
Authorized Outlets & Non-Profit Businesses | 248.10(e)(1) | 249.10(e)(1) | Coupon Reimbursement |  |  |  |  | 521,627.10
Authorized Outlets & Non-Profit Businesses | 248.10(e)(1) | 249.10(e)(1) | Paper Coupon Reimbursement & Electronic Benefit Mail-In | 13,314.95 | 9.00 | 119,834.52 | 4.00 | 479,338.10
Authorized Outlets & Non-Profit Businesses | 248.10(e)(1) | 249.10(e)(1) | Electronic Benefit Reimbursement via Hybrid Processing | 3,665.12 | 9.00 | 32,986.04 | 1.00 | 32,986.04
Authorized Outlets & Non-Profit Businesses | 248.10(e)(1) | 249.10(e)(1) | Electronic Benefit Reimbursement via Electronic Processing | 18,605.94 | 1.00 | 18,605.94 | 0.50 | 9,302.97
Authorized Outlets & Non-Profit Businesses | 248.10(j) | 249.10(j) | Authorized Outlet Complaints | 905.00 | 1.00 | 905.00 | 0.50 | 452.50
Subtotal: Authorized Outlets & Non-Profit Businesses | 35,915.70 | 5.73 | 205,876.53 | 2.78 | 573,256.33
Grand Subtotal: Reporting | 2,277,011.00 | 2.07 | 4,720,807.85 | 0.36 | 1,715,877.81

Table 2—Estimate of the Collection of Information Burden Table for Recordkeeping
Respondent | WIC FMNP regulatory section | SFMNP regulatory section | Information collected | Estimated number of respondents | Responses per respondent | Total annual responses | Hours per response | Total annual burden hours
State & Local Agencies | 248.4(c) | 249.4(c) | State Plan Record Maintenance | 74.00 | 1.00 | 74.00 | 0.167 | 12.36
State & Local Agencies | 248.9 | 249.9 | Nutrition Education Records | 106.00 | 21,134.15 | 2,240,220.00 | 0.0167 | 37,411.67
State & Local Agencies | 248.10(a)(4), (d) | 249.10(a)(4), (d) | Authorized Outlet Training Records | 74.00 | 1.00 | 74.00 | 2.00 | 148.00
State & Local Agencies | 248.10(b), (c) | 249.10(b) | Authorized Outlet Agreements | 74.00 | 1.00 | 74.00 | 2.00 | 148.00
State & Local Agencies | 248.10(b)(5) | 248.10(b)(8) | Maintenance of Disqualification and Sanction Records | 74.00 | 1.00 | 74.00 | 0.167 | 12.36
State & Local Agencies | 248.10(e)(2)-(3); 248.17(c)(1)(i) | 249.10(e)(2)-(3); 249.17(c)(1)(i) | Monitoring/Review of Authorized Outlets | 74.00 | 33.66 | 2,491.00 | 0.50 | 1,245.50
State & Local Agencies | 248.10(e)(4); 248.17(c)(1)(ii) | 249.10(e)(4); 249.17(c)(1)(ii) | Monitoring/Review of Local Agencies | 106.00 | 10.37 | 1,099.00 | 0.50 | 549.50
State & Local Agencies | 248.11(c) | 249.11(c) | Record of Financial Expenditures | 106.00 | 1.00 | 106.00 | 2.00 | 212.00
State & Local Agencies | 248.16(a) | 249.16(a) | Fair Hearings | 106.00 | 1.00 | 106.00 | 1.00 | 106.00
State & Local Agencies | 248.17(a) | 249.17(a) | Maintenance of Management Evaluations | 106.00 | 1.00 | 106.00 | 2.00 | 212.00
State & Local Agencies | 248.23(a) | 249.23(a) | Records of Program Operations | 106.00 | 1.00 | 106.00 | 40.00 | 4,240.00
Grand Subtotal: Recordkeeping | 106.00 | 21,174.81 | 2,244,530.00 | 0.02 | 44,297.39

Table 3—Summary Table
| Estimated number of respondents | Responses per respondent | Total annual responses | Hours per response | Total annual burden hours
Total Reporting Burden | 2,277,011.00 | 2.07 | 4,720,807.85 | 0.36 | 1,715,877.81
Total Recordkeeping Burden | 106.00 | 21,174.81 | 2,244,530.00 | 0.02 | 44,297.39
Total Burden for #0584-0447 | 2,277,011.00 | 3.06 | 6,965,337.85 | 0.25 | 1,760,175.20

James C. Miller,
Administrator, Food and Nutrition Service.

[FR Doc. 2025-15050 Filed 8-7-25; 8:45 am]

BILLING CODE 3410-30-P